DEPARTMENT OF THE INTERIOR

U.S. Geological Survey

Announcement of National Geospatial Advisory Committee Meeting

AGENCY: U.S. Geological Survey, Interior.

ACTION: Notice of meeting.

SUMMARY: The National Geospatial Advisory Committee (NGAC) will meet on October 15-16, 2008 at the National Conservation Training Center, 698 Conservation Way, Shepherdstown, WV 25443. The meeting will be held in Room #161 Instructional West.

The NGAC, which is composed of representatives from governmental, private sector, non-profit, and academic organizations, has been established to advise the Chair of the Federal Geographic Data Committee on management of Federal geospatial programs, the development of the National Spatial Data Infrastructure, and the implementation of Office of Management and Budget (OMB) Circular A-16. Topics to be addressed at the meeting include:

—Changing Landscape White Paper.

—Geospatial Transition Paper.

—National Land Parcel Data Study.

—Imagery for the Nation Update.

—Geospatial Line of Business Update.

—NGAC Action Plan.

The meeting will include two opportunities for public comment. During the afternoon of October 15, comments specific to National Land Parcel Data may be offered. In addition, there will be a general public comment period during the morning of October 16. Comments may also be submitted to the NGAC in writing.

Members of the public who wish to attend the meeting must register in advance for clearance into the meeting site. Please register by contacting Arista Maher at the U.S. Geological Survey (703-648-6283, amaher@usgs.gov). Registrations are due by October 10. While the meeting will be open to the public, seating may be limited due to room capacity.

Members of the public who cannot attend in person may listen to the meeting via conference call/web conference. Please register in advance for the conference call by contacting Arista Maher at the U.S. Geological Survey (703-648-6283, amaher@usgs.gov). Registrations are due by October 10. Instructions will be provided. The number of participants may be limited by conference line capacity.

DATES: The meeting will be held on October 15 from 8:30 a.m. to 5 p.m. and on October 16 from 8 a.m. to 4 p.m.

FOR FURTHER INFORMATION CONTACT: John Mahoney, U.S. Geological Survey (206-220-4621).

SUPPLEMENTARY INFORMATION: Meetings of the National Geospatial Advisory Committee are open to the public. Additional information about the NGAC and the meeting are available at http://www.fgdc.gov/ngac.

Dated: September 19, 2008.
Ivan DeLoatch,
Staff Director, Federal Geographic Data Committee.

[FR Doc. E8-22761 Filed 9-26-08; 8:45 am]

BILLING CODE 4311-AM-P